DEPARTMENT OF TRANSPORTATION

Office of the Secretary

49 CFR Part 40

Procedures for Transportation Workplace Drug and Alcohol Testing Programs

CFR Correction

In Title 49 of the Code of Federal Regulations, Parts 1 to 99, revised as of October 1, 2006, the heading for § 40.209, on page 680 is corrected to read as follows:

§ 40.209 What procedural problems do not result in the cancellation of a test and do not require correction?

* * * * *

[FR Doc. 07-55511 Filed 9-25-07; 8:45 am]

BILLING CODE 1505-01-D